DEPARTMENT OF HEALTH AND HUMAN SERVICES

Health Resources and Services Administration

Statement of Organization, Functions and Delegations of Authority

Correction

In notice document E6-20171 beginning on page 69135 in the issue of Wednesday, November 29, 2006, make the following correction:

On page 69137, in the second column, in the fifth line from the end of the document, “November 7, 2006” should read “Dated: November 17, 2006”.

[FR Doc. Z6-20171 Filed 12-1-06; 8:45 am]

BILLING CODE 1505-01-D